CONSUMER PRODUCT SAFETY COMMISSION

Sunshine Act Meeting

TIME AND DATE: Thursday, October 24, 2002, 10 a.m.

Location: Room 420, East West Towers, 4330 East West Highway, Bethesda, Maryland.

STATUS: Open to the public.

Matter To Be Considered:

Petition HP 99-1 Polyvinyl Chloride (PV)

The staff will brief the Commission on Petition HP 99-1 requesting a ban of polyvinyl chloride (PVC) in all toys and other products intended for children five years of age and under.

For a recorded message containing the latest agenda information, call (301) 504-0709.

Contact Person For Additional Information: Todd A. Stevenson, Office of the Secretary, 4330 East West Highway, Bethesda, MD 20207 (301) 504-0800.

Dated: October 15, 2002.
Todd A. Stevenson,
Secretary.

[FR Doc. 02-26730 Filed 10-16-02; 8:45 am]

BILLING CODE 6355-01-M